DEPARTMENT OF JUSTICE

Notice of Lodging of Consent Decree under the Clean Water Act

Under 28 CFR 50.7, notice is hereby given that on August 15, 2006, a proposed Consent Decree (“Decree”) in United States and Commonwealth of Kentucky, Environmental and Public Protection Cabinet v. Mid-Valley Pipeline Company, Sunoco Pipeline L.P., and Sun Pipe Line Company, Civil Action No. 06-57-KKC, was lodged with the United States District Court for the Eastern District of Kentucky.

In this action, the United States alleged Clean Water Act (“CWA”) violations arising from two spills of crude oil from the Mid-Valley Pipeline (MVPL). In the Complaint, the United States asserts CWA claims for penalties and injunctive relief, and the Kentucky Cabinet asserts claims for penalties and costs under Kentucky Revised Statutes Chapter 224 and related Kentucky Administrative Regulations, against MVPL owner Mid-Valley Pipeline Company (“Mid-Valley”) and MVPL operator Sunoco Pipeline L.P. (“SPLP”), for the spill of 6,251 barrels of crude oil on January 26, 2005, in Owen County, Kentucky, into the Kentucky and Ohio Rivers. In addition, the United States asserts a CWA claim against Mid-Valley and then-operator Sun Pipe Line Company (“Sun”) for the spill of 1,500 barrels of crude oil on November 24, 2000, in Claiborne Parish, Louisiana, into Campit Lake. With respect to the Kentucky spill, the Decree provides for Mid-Valley and SPLP to pay a $2.57 million civil penalty ($1.4 million to the Unite States, and $1.17 million to the Cabinet), pay for a state environmental project at a cost of $230,000, perform injunctive relief related to enhancement of spill response preparation, and reimburse the Kentucky Cabinet for certain billed response costs. With respect to the November 2000 Louisiana discharge of 1,500 barrels, Mid-Valley and operator Sun are to pay a federal civil penalty of $300,000.

The Department of Justice will receive for a period of thirty (30) days from the date of this publication comments relating to the Decree. Comments should be addressed to the Assistant Attorney General, Environment and Natural Resources Division, P.O. Box 7611, U.S. Department of Justice, Washington, DC 20044-7611, and should refer to United States and Commonwealth of Kentucky, Environmental and Public Protection Cabinet v. Mid-Valley Pipeline Company. Sunoco Pipeline L.P., and Sun Pipe Line Company, D.J. Ref. 90-5-1-1-07957.

The Decree may be examined at the Office of the United States Attorney, Eastern District of Kentucky, 110 West Vine Street, Suite 400, Lexington, KY 40507-1671; at U.S. EPA Region 4, 61 Forsyth Street, SW., Atlanta, GA 30303-8960; and at U.S. EPA Region 6, 1445 Ross Avenue, Suite 1200, Dallas, TX 75202-2733. During the public comment period, the Decree may also be examined on the following Department of Justice Web site, http://www.usdoj.gov/enrd/Consent_Decrees.html. A copy of the Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $8.25 (25 cents per page reproduction cost) payable to the U.S. Treasury.

Henry S. Friedman,
Assistant Chief, Environmental Enforcement Section, Environment and Natural Resources Division.

[FR Doc. 06-7028 Filed 8-18-06; 8:45 am]

BILLING CODE 4410-15-M